DEPARTMENT OF ENERGY

Federal Energy Regulatory Commission

[Project No. 14500-000]

Hamilton Street Hydro, LLC; Notice of Preliminary Permit Application Accepted for Filing and Soliciting Comments, Motions To Intervene, and Competing Applications

On February 19, 2013, Hamilton Street Hydro, LLC, filed an application for a preliminary permit, pursuant to section 4(f) of the Federal Power Act (FPA), proposing to study the feasibility of hydropower at the existing Hamilton Street Dam located on the Lehigh River in Lehigh County, Pennsylvania. The sole purpose of a preliminary permit, if issued, is to grant the permit holder priority to file a license application during the permit term. A preliminary permit does not authorize the permit holder to perform any land-disturbing activities or otherwise enter upon lands or waters owned by others without the owners' express permission.

The proposed Hamilton Street Dam Hydroelectric Project would consist of the following: (1) An existing 14-foot-high concrete gravity dam with a 480-foot-long spillway; (2) an existing impoundment having a surface area of 50 acres and a storage capacity of 371 acre-feet at an elevation of 240 feet mean sea level (msl); (3) a new 60-foot-long by 30-foot-wide by 30-foot-high powerhouse with two turbine-generator units having a combined capacity of 2,028 kilowatts and two identical 20-foot-wide, 10-foot-high, 5-foot-long direct intakes; (4) a 500-foot-long section of the existing canal to direct flows to the intakes; (5) a new 40-foot-wide, 100-foot-long tailrace; (6) a new 1,500-foot-long, 4,160-kilovolt transmission line extending from the powerhouse to an existing substation; and (7) appurtenant facilities. The proposed project would have an annual generation of 9.635 gigawatt-hours.

Applicant Contact: Mark Boumansour, Hamilton Street Hydro, LLC, 1401 Walnut Street, Suite 301, Boulder, CO 80302; phone: (303) 440-3378.

FERC Contact: Monir Chowdhury; phone: (202) 502-6736.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of the Commission's Web site at http://www.ferc.gov/docs-filing/elibrary.asp. Enter the docket number (P-14500-000) in the docket number field to access the document. For assistance, contact FERC Online Support.

Dated: April 11, 2013.
Kimberly D. Bose,
Secretary.

[FR Doc. 2013-09013 Filed 4-16-13; 8:45 am]

BILLING CODE 6717-01-P